INTERNATIONAL TRADE COMMISSION

[Investigation Nos. 701-TA-582 and 731-TA-1377 (Review)]

Ripe Olives From Spain

Determinations

On the basis of the record ¹ developed in the subject five-year reviews, the United States International Trade Commission (“Commission”) determines, pursuant to the Tariff Act of 1930 (“the Act”), that revocation of the countervailing and antidumping duty orders on ripe olives from Spain would be likely to lead to continuation or recurrence of material injury to an industry in the United States within a reasonably foreseeable time.

¹ The record is defined in § 207.2(f) of the Commission's Rules of Practice and Procedure (19 CFR 207.2(f)).

Background

The Commission instituted these reviews on July 3, 2023 (88 FR 42751) and determined on October 6, 2023 that it would conduct full reviews (88 FR 73043, October 24, 2023). Notice of the scheduling of the Commission's reviews and of a public hearing to be held in connection therewith was given by posting copies of the notice in the Office of the Secretary, U.S. International Trade Commission, Washington, DC, and by publishing the notice in the Federal Register on January 22, 2024 (89 FR 3950). The Commission conducted its hearing on May 30, 2024. All persons who requested the opportunity were permitted to participate.

The Commission made these determinations pursuant to section 751(c) of the Act (19 U.S.C. 1675(c)). It completed and filed its determinations in these reviews on August 5, 2024. The views of the Commission are contained in USITC Publication 5526 (July 2024), entitled Ripe Olives from Spain: Investigation Nos. 701-TA-582 and 731-TA-1377 (Review).

By order of the Commission.
Issued: August 6, 2024.
Sharon Bellamy,
Supervisory Hearings and Information Officer.

[FR Doc. 2024-17713 Filed 8-8-24; 8:45 am]

BILLING CODE 7020-02-P